DEPARTMENT OF TRANSPORTATION

Federal Transit Administration

Public Transportation Emergency Relief Funds for Transit Systems Affected by Major Declared Disasters Occurring in Calendar Year 2018

AGENCY: Federal Transit Administration (FTA), DOT.

ACTION: Notice of Availability of Emergency Relief Funding (NAERF).

SUMMARY: The Federal Transit Administration (FTA) announces the opportunity to apply for $10,462,935 in non-competitive grants under the Public Transportation Emergency Relief Program (Emergency Relief Program) to States, Territories, local governmental authorities, Indian tribes, and other FTA recipients affected by major declared disasters occurring in calendar year 2018. Projects may include costs for disaster response, recovery, and rebuilding activities. FTA will distribute these funds in a manner consistent with the eligibility requirements of this program on a non-competitive basis, subject to the priorities set forth below.

DATES: Complete proposals must be submitted electronically through the GRANTS.GOV “APPLY” function by 11:59 p.m. Eastern time on January 17, 2020. Prospective applicants should initiate the process by registering on the GRANTS.GOV website promptly to ensure completion of the application process before the submission deadline. Instructions for applying can be found on FTA's website at http://transit.dot.gov/howtoapply and in the “FIND” module of GRANTS.GOV. The funding opportunity ID is FTA-2020-002-TPM-ER. Mail and fax submissions will not be accepted.

FOR FURTHER INFORMATION CONTACT: For program-specific questions about applying for the funds through GRANTS.GOV as outlined in this notice, please contact Thomas Wilson, Office of Program Management, 1200 New Jersey Ave SE, Washington, DC 20590, phone: (202) 366-5279, or email, Thomas.Wilson@dot.gov. For legal questions, contact Bonnie Graves, Office of Chief Counsel, 90 Seventh St., Ste 15-300, San Francisco, CA 94103, phone: (202) 366-0944, or email, Bonnie.Graves@dot.gov.

SUPPLEMENTARY INFORMATION:

Table of Contents

I. Considerations for Recipients of Emergency Relief Funds

A. Program Description

B. Federal Award Information

C. Eligibility Information

D. Application and Submission Information

E. Allocation Methodology

F. Pre-Award Authority

G. Waiver of Remaining Useful Life Requirement

H. Treatment of Insurance Proceeds

I. Emergency Relief from FTA Regulatory Requirements

II. Federal Award Administration

A. TrAMS Grant Application

B. Payment

C. Grant Requirements

D. Reporting

E. Oversight and Audits

F. Federal Awarding Agency Contact

A. Program Description

Extreme weather and other destructive events occurring during calendar year 2018 resulted in 62 major disasters across the United States. Transit systems in some of the disaster-affected areas provided emergency transportation services or sustained damage to capital assets.

FTA's Emergency Relief Program provides FTA with primary responsibility for reimbursing public transportation emergency response and recovery costs after an emergency or major disaster that affects public transportation systems. As such, public transportation agencies, States, Territories, local governmental authorities, Indian tribes, and other FTA grant recipients that provide or fund public transportation service in the affected areas are eligible for Emergency Relief funding under the program. FTA will allocate funds consistent with the requirements of the final rule for the Emergency Relief Program (49 CFR part 602), published in the Federal Register on October 7, 2014.

B. Federal Award Information

The Additional Supplemental Appropriations for Disaster Relief Act of 2019 (Disaster Relief Act) (Pub. L. 116-20), signed into law on June 6, 2019, appropriated $10,542,000 for FTA's Emergency Relief Program (49 U.S.C. 5324) for transit systems affected by major declared disasters occurring in calendar year 2018.

Of the $10,542,000 million appropriated, three-quarters of 1 percent, or a total of $79,065 is set aside for administrative expenses and ongoing program management oversight activities as authorized under the Disaster Relief Act, leaving $10,462,935 available for allocation to eligible recipients.

C. Eligibility Information

1. Eligible Applicants

Public transportation agencies, States, Territories, local governmental authorities, Indian tribes, and other FTA grant recipients that provide or fund public transportation service are eligible for Emergency Relief funding under the program. To be considered eligible to apply for the funding described in this NAERF, such entities must provide or fund public transportation services in counties designated as eligible for any category of Federal Emergency Management Agency (FEMA) Public Assistance for a major declared disaster with an incident period partially or entirely occurring within calendar year 2018. Entities that generally receive transit funding directly from FTA may apply for these funds according to the instructions in this NAERF. Public transit systems that are not FTA direct recipients (i.e., are subrecipients) but have incurred eligible expenses may receive Emergency Relief funding through a pass-through entity, such as a State or designated recipient. Please see www.fema.gov/disasters for a list of major disaster declarations, areas designated for Public Assistance, and incident periods.

2. Cost Sharing or Matching

The maximum Federal share for all grants awarded via this NAERF is 80 percent with the following exceptions:

1. The project is for the purposes of complying with or maintaining compliance with the Americans with Disabilities Act of 1990 or the Clean Air Act (49 U.S.C. 5323(i)).

a. Vehicles procured for such purposes are eligible for a Federal share of 85 percent.

b. Vehicle-related equipment and facilities (or parts thereof) procured or constructed for such purposes are eligible for a Federal share of 90 percent.

2. The project is in response to or recovery from a major declared disaster in an insular area. Such projects are eligible for a Federal share of 100 percent (48 U.S.C. 1469a).

3. The project is in response to or recovery from the following major declared disasters: Oklahoma Wildfires (FEMA Disaster No. DR-4373), California Wildfires (FEMA Disaster No. DR-4382), or California Wildfires (FEMA Disaster No. DR-4407). To be consistent with the FEMA Public Assistance special cost-sharing arrangements authorized for these major disaster declarations, debris removal, emergency protective measures, emergency repairs, and emergency operations expenses are eligible for a Federal share of 90 percent.

4. The project is in response to or recovery from major declared disaster Florida Hurricane Michael (FEMA Disaster No. DR-4399). To be consistent with the FEMA Public Assistance special cost-sharing arrangements authorized for this major disaster declaration, debris removal, emergency protective measures, emergency repairs, and emergency operations:

a. Completed on or before November 24, 2018 are eligible for a Federal share of 100 percent.

b. Completed on or after November 25, 2018 are eligible for a Federal share of 90 percent.

5. In the event FEMA increases the Public Assistance Federal share for any other major declared disasters occurring in calendar year 2018, FTA will increase the Federal share for Emergency Relief grants so that it is consistent with FEMA.

The non-Federal share of Emergency Relief grants may be provided from an undistributed cash surplus, a replacement or depreciation cash fund or reserve, or new capital. In addition, recipients may utilize the following provisions for complying with the non-Federal share requirement.

The Community Development Block Grant (CDBG) program (42 U.S.C. 5305(a)(9)) provides that “payment of the non-Federal share required in connection with a Federal grant-in-aid program undertaken as part of activities assisted under [chapter 53 of title 42]” is an eligible activity. Since the CDBG statute specifically states it is available to fund the “non-Federal share” of other Federal grant programs, if the activity is eligible under the CDBG program, FTA will accept CDBG funds as local match.

Recipients may also utilize Transportation Development Credits (TDCs), formerly known as Toll Revenue Credits, in place of the non-Federal share. The use of TDCs must be approved by the State, which must send a letter to the FTA regional office certifying the availability of sufficient TDCs and approving their use prior to submitting a grant application. Recipients are advised that the use of TDCs means that no local funds will be required for projects in the grant, and that the funds allocated by the FTA may not alone be sufficient to fund the entirety of the proposed Emergency Relief projects. FTA may not allocate additional Federal funds to recipients that use TDCs in place of the non-Federal share, so sufficient alternative funds may need to be located to fully finance projects utilizing TDCs. FTA will not approve a retroactive application of TDCs. Recipients are advised to contact the applicable FTA regional office regarding any questions about eligible sources of local matching funds.

3. Eligible Projects

Eligible projects include public transportation emergency operations, emergency protective measures, emergency repairs, and permanent repairs. Recipients are strongly encouraged to review FTA's Emergency Relief Manual, found at https://www.transit.dot.gov/funding/grant-programs/emergency-relief-program/emergency-relief-manual-reference-manual-states to assist in the identification of potentially eligible projects and emergency expenses.

4. Transferring Unreimbursed Projects From FEMA to FTA

FTA's Emergency Relief Program provides FTA with primary responsibility for reimbursing public transportation emergency response and recovery costs after an emergency or major disaster that affects public transportation systems when appropriations for FTA's Emergency Relief Program are available. Per the March 2013 Memorandum of Agreement between FTA and FEMA, entities seeking funding for 2018 major declared disaster-related public transportation expenses from FEMA should transfer funding requests for eligible expenses that have not been disbursed or drawn down to FTA via the grant application process outlined in this NAERF. This includes expenses that are in an obligated but undisbursed FEMA Public Assistance grant. Documentation developed for the FEMA Public Assistance program may be used to satisfy applicable FTA grant application requirements.

D. Application and Submission Information

The application process will occur in two stages. First, applicants will submit proposals requesting reimbursement of eligible costs. Applications for funding must be submitted between the date of publication of this notice and January 17, 2020 through GRANTS.GOV. Second, after the application period closes, FTA will announce allocations of funds on its website at www.transit.dot.gov. Recipients with allocations will then enter a grant application in the FTA's Transit Award Management System (TrAMS).

1. Address To Request Application

Applications must be submitted electronically through GRANTS.GOV. General information for submitting applications through GRANTS.GOV can be found at www.fta.dot.gov/howtoapply along with specific instructions for the forms and attachments required for submission. Mail and fax submissions will not be accepted. The SF-424 Application for Federal Assistance is available at GRANTS.GOV and the supplemental form for Public Transportation Emergency Relief Funds for Transit Systems Affected by Major Declared Disasters Occurring in Calendar Year 2018 can be downloaded from GRANTS.GOV or the FTA website at https://www.transit.dot.gov/funding/grant-programs/emergency-relief-program. Failure to submit the information as requested may delay review or disqualify the application.

2. Content and Form of GRANTS.GOV Application Submission

A complete proposal submission consists of two forms and supporting documentation. The two required forms are: (1) The SF-424 Application for Federal Assistance; and (2) the supplemental form for the Public Transportation Emergency Relief Funds for Transit Systems Affected by Major Declared Disasters Occurring in Calendar Year 2018 Program. The supplemental form and any supporting documents must be attached to the “Attachments” section of the SF-424. The application must include responses to all sections of the SF-424 Application for Federal Assistance and the supplemental form, unless indicated as optional. The information on the supplemental form will be used to determine applicant and project eligibility for the program. FTA encourages applicants to demonstrate the responsiveness of their application with the most relevant information the applicant can provide, regardless of whether FTA has specifically requested such information in this notice. If information is copied into the supplemental form from another source, applicants should verify that pasted text is fully captured on the supplemental form and has not been truncated by the character limits built into the form. Applicants should use both the “Check Package for Errors” and the “Validate Form” validation buttons on both forms to check all required fields on the forms, and ensure that the Federal and local amounts specified are consistent.

A list of projects must be included in the submission to GRANTS.GOV that identifies emergency operations, emergency protective measures, and emergency repairs completed as well as permanent repairs needed to repair, reconstruct or replace the seriously damaged or destroyed rolling stock, equipment, facilities, and infrastructure to a state of good repair. FTA will then assess the extent to which the application addresses each of the three criteria below.

a. Documentation To Support Emergency Operating Requests

Applications to GRANTS.GOV must include the purpose of the emergency public transportation service provided, which may include: Evacuations; rescue operations; moving rolling stock to higher ground to protect it from storm surges; additional bus or ferry service to replace inoperable rail service or to detour around damaged areas; returning evacuees to their homes after the disaster; and the net project costs related to reestablishing, expanding, or relocating public transportation service before, during, or after the disaster. The application must include the dates, hours, number and type of vehicles, and information relating to fares received for the emergency service. Only net project costs may be reimbursed.

b. Documentation To Support Capital Requests

Applications to GRANTS.GOV must include copies of detailed damage assessments to support the request for assistance for capital projects. Some applicants may have previously worked with FTA or FEMA to develop damage assessments which may be included in the application. Typically, a damage assessment involves on-the-ground visits to the damage sites to verify the extent of the damage and to estimate the cost of repairs eligible for Emergency Relief funding. The damage assessment should document: (1) The specific location, type of facility or equipment, nature and extent of damage; (2) the most feasible and practical method of repair or replacement; and (3) the estimated repair and replacement cost.

c. Other Relevant Items

Applicants must provide supporting documentation showing any other sources of funding available to address the damage resulting from a disaster, including, but not limited to, insurance policies and grant agreements with FEMA. FTA will not fund activities for which grant recipients have already drawn down funds obligated by FEMA. Any applicant to FTA's Emergency Relief Program that has also applied to FEMA for emergency funding must document the scope of any agreements with FEMA, including amounts obligated and drawn down, the dates for which FEMA agreed to fund any operating costs, and a list of any capital projects included in the FEMA application or equivalent document.

3. Unique Entity Identifier and System for Award Management (SAM)

Each applicant is required to: (1) Be registered in SAM before submitting an application; (2) provide a valid unique entity identifier in its application; and (3) continue to maintain an active SAM registration with current information at all times during which the applicant has an active Federal award or an application or plan under consideration by FTA. Registration in SAM may take as little as 3-5 business days, but since there could be unexpected steps or delays (for example, if there is a need to obtain an Employer Identification Number), FTA recommends allowing ample time, up to several weeks, for completion of all steps. For additional information on obtaining a unique entity identifier, please visit https://www.sam.gov/SAM/.

4. Submission Dates and Times

Project proposals must be submitted electronically through GRANTS.GOV by 11:59 p.m. Eastern time on January 17, 2020. GRANTS.GOV attaches a time stamp to each application at the time of submission. Proposals submitted after the deadline will only be considered under extraordinary circumstances not under the applicant's control. Mail and fax submissions will not be accepted.

Within 48 hours after submitting an electronic application, the applicant should receive two email messages from GRANTS.GOV: (1) Confirmation of successful transmission to GRANTS.GOV, and (2) confirmation of successful validation by GRANTS.GOV. If confirmations of successful validation are not received or a notice of failed validation or incomplete materials is received, the applicant must address the reason for the failed validation, as described in the email notice, and resubmit before the submission deadline. If making a resubmission for any reason, include all original attachments regardless of which attachments were updated and check the box on the supplemental form indicating this is a resubmission.

FTA urges applicants to submit applications at least 72 hours prior to the due date to allow time to receive the validation messages and to correct any problems that may have caused a rejection notification. GRANTS.GOV scheduled maintenance and outage times are announced on the GRANTS.GOV website. Deadlines will not be extended due to scheduled website maintenance.

Applicants are encouraged to begin the process of registration on the GRANTS.GOV site well in advance of the submission deadline. Registration is a multi-step process, which may take several weeks to complete before an application can be submitted. Registered applicants may still be required to take steps to keep their registration up to date before submissions can be made successfully: (1) Registration in the System for Award Management (SAM) is renewed annually, and (2) persons making submissions on behalf of the Authorized Organization Representative (AOR) must be authorized in GRANTS.GOV by the AOR to make submissions.

5. Funding Restrictions

FTA Emergency Relief Program funds may not be used to reimburse project costs for which a transit system has received funding from payments from insurance policies or from another Federal agency, including FEMA. Please see the FTA's Emergency Relief Manual for a complete list and description of ineligible expenses.

6. Webinar

FTA will conduct a webinar that includes an overview of the application process for FTA recipients interested in applying for FTA Emergency Relief funds on a date to be determined. The webinar will be announced on FTA's website and through an email announcement to those who have signed up at https://public.govdelivery.com/accounts/USDOTFTA/subscriber/new to receive email updates from FTA regarding the Emergency Relief Program.

E. Allocation Methodology

Of the $10,542,000 million appropriated, three-quarters of 1 percent, or a total of $79,065 is set aside for administrative expenses and ongoing program management oversight activities as authorized under the Disaster Relief Act, leaving $10,462,935 available for allocation to eligible recipients.

FTA will allocate funds on a non-competitive basis. The FTA Administrator will determine the final allocation of funding for each applicant after validating damage assessments and cost estimates. FTA reserves the right to request additional information prior to making a determination as to Emergency Relief funding eligibility of any particular project. FTA may also seek clarification from any applicant about any statement in its proposal that FTA finds ambiguous. FTA intends to announce final allocations on the FTA website.

F. Pre-Award Authority

Pre-award authority allows recipients to incur certain project costs before grant approval and retain the eligibility of those costs for subsequent reimbursement after grant approval. Pre-award authority as it relates to the Emergency Relief Program is described in the Emergency Relief Program final rule (49 CFR 602.11). In considering the use of pre-award authority, recipients should be aware of the following:

1. Pre-award authority is not a legal or implied commitment that the subject project will be approved for FTA assistance or that FTA will obligate Federal funds. Furthermore, it is not a legal or implied commitment that all activities undertaken by the applicant will be eligible for inclusion in the project.

2. Except as waived pursuant to the waiver process described in Section I.I.5 of this notice, all FTA statutory, procedural, and contractual requirements must be met.

3. The recipient must take no action that prejudices the legal and administrative findings that FTA must make in order to approve a project.

4. The Federal amount of any future FTA assistance awarded to the recipient for the project will be determined on the basis of the overall scope of activities and the prevailing statutory provisions with respect to the Federal/non-Federal match ratio at the time the funds are obligated.

5. When FTA subsequently awards a grant for the project, the Federal Financial Report in TrAMS indicates the use of pre-award authority.

FTA grants pre-award authority to affected recipients for response, recovery, and rebuilding expenses incurred as a result of major declared disasters occurring in calendar year 2018. Pre-award authority applies to expenses incurred in preparation for such disasters when forecasts specific to the disasters were available. Expenses incurred for general disaster preparedness are not eligible.

If a recipient intends to use pre-award authority for recovery and rebuilding expenses, FTA recommends the recipient work with the appropriate FTA regional office to verify that all of the proposed costs are eligible under the Emergency Relief Program in advance of incurring any costs to the extent practicable. FTA regional office contact information can be found at https://www.transit.dot.gov/about/regional-offices/regional-offices.

G. Waiver of Remaining Useful Life Requirement

FTA is implementing a blanket waiver to relieve FTA recipients from its useful life requirement with respect to assets that were destroyed as a result of a major declared disaster in calendar year 2018 and taken out of service before the end of their useful life. Such assets are presumed to have no remaining useful life. As a result of this waiver, recipients may apply for funds to replace assets without regard to the Federal interest remaining in the destroyed asset.

Although FTA has determined that Federally-funded assets destroyed by major declared disasters have no remaining useful life, recipients may have a financial obligation to FTA for assets that have a fair market value (FMV) in excess of $5,000 at the time of disposition. For disposition requirements, please see FTA Circular 5010.1E, “Award Management Requirements,” Chapter IV, subsection 4.

H. Treatment of Insurance Proceeds

As described in the Emergency Relief Program Manual, and consistent with the Emergency Relief Program final rule (49 CFR part 602) and FTA Circular 5010.1E: “Award Management Requirements”, if a recipient receives or allocates insurance proceeds to a cost for which FTA either allocated or awarded Emergency Relief Program funds, the recipient will be required to amend the grant to reflect a reduced Federal amount, and will be required to reimburse FTA for any FTA payments (drawdown of funds) in excess of the new Federal amount. FTA will deobligate any excess or unliquidated funds from the grant. FTA may subsequently reallocate these funds through the Emergency Relief Program for other eligible projects.

In the event a recipient receives insurance proceeds for an asset and decides not to replace that asset, the waiver of useful life described in Section I.G does not apply, and the recipient must reimburse FTA the remaining Federal interest in that asset in accordance with FTA Circular 5010.1E.

I. Emergency Relief From FTA Regulatory Requirements

Certain FTA regulatory requirements are waived during and after major declared disasters.

1. Charter

Transit agencies may take actions, such as providing service for evacuations, returning evacuees from shelters to their homes, transporting utility workers, and providing service to shelter residents, as long as these actions are directly related to a declaration of emergency by the President, governor, or mayor, without triggering the charter rule. Transit agencies may provide such services for up to 45 days from the declaration of emergency.

If transit agencies need to provide the type of emergency transportation services described above past those dates, they must follow the procedures described in Section I.I.5 below.

2. The National Environment Policy Act (NEPA)

FTA has determined that certain activities related to repairing transportation facilities damaged by an incident resulting in a Presidential disaster or emergency declaration are categorical exclusions and normally do not require any further NEPA approvals by FTA (23 CFR 771.118(c)(11)). These actions include:

a. Emergency repairs performed under FTA's Emergency Relief Program (49 U.S.C. 5324).

b. The repair, reconstruction, restoration, retrofitting, or replacement of any road, highway, bridge, tunnel, or transit facility (such as a ferry dock or bus transfer station), including ancillary transportation facilities (such as pedestrian/bicycle paths and bike lanes), that is in operation or under construction when damaged and the action occurs within the existing right-of-way and in a manner that substantially conforms to the preexisting design, function, and location as the original (which may include upgrades to meet existing codes and standards as well as upgrades warranted to address conditions that have changed since the original construction).

3. Planning

In accordance with the planning regulation (23 CFR part 450), emergency relief projects that do not involve substantial functional, locational, or capacity changes are not required to be in the Transportation Improvement Program (TIP) or Statewide Transportation Improvement Program (STIP).

4. Procurement

Generally, procurement of goods and services by transit agencies must be completed via a competitive procurement. However, Federal regulations (2 CFR 200.320) permit sole source contracting when the public exigency or emergency for the requirement will not permit a delay resulting from competitive solicitation; or the federal awarding agency expressly authorizes noncompetitive proposals in response to a written request from the transit agency.

The recipient must document its sole source justification in writing at the time of the procurement. FTA encourages grant recipients considering a sole source based on exigency or emergency to contact their FTA regional office for technical assistance and/or express authorization of a noncompetitive proposal.

5. Waiver Process

Recipients may request waivers of FTA administrative requirements by submitting a request to www.regulations.gov, FTA docket number FTA-2019-0001, as described in the Emergency Relief Program final rule (49 CFR 602.15), however, recipients should not proceed with a project with the expectation that waivers will be provided. It is recommended that recipients discuss waiver requests with their FTA regional office prior to submission to the docket.

II. Federal Award Administration

A. TrAMS Grant Application

Once FTA allocates Emergency Relief funds to a recipient, the recipient will be required to submit a grant application electronically via FTA's TrAMS system.

FTA will assign distinct project identification numbers for recovery/rebuilding projects.

Recipients are required to maintain records, including but not limited to all invoices, contracts, time sheets, and other evidence of expenses to assist FTA in validating the eligibility and completeness of a recipient's reimbursement requests under the Improper Payment Information Act.

Upon application, the eligible recipient should provide the information outlined in the Emergency Relief final rule (49 CFR 602.17). For grant applications for reimbursement for emergency operations costs, applicants should include summary information as described in the final rule (dates, hours, number of vehicles, and total fare revenues, if any, received for the emergency service), as well as cost and a description of services in sufficient detail for FTA to identify the costs as reasonable and eligible under the Emergency Relief Program. Back-up or supporting documentation may be requested upon FTA's review of the application or at a later date. Any costs determined to be ineligible after disbursement of funds must be refunded to the FTA.

B. Payment

Upon award, payments to recipients will be made by electronic transfer to the recipient's financial institution through the FTA's Electronic Clearing House Operation (ECHO) system.

C. Grant Requirements

Emergency Relief funds may only be used for eligible purposes as defined in Federal public transportation law (49 U.S.C. 5324) and as described in the Emergency Relief Program final rule (49 CFR part 602) and this notice. Additional grant requirement information can be found in FTA's Emergency Relief Manual.

Recipients of Emergency Relief funds must comply with all applicable Federal requirements, including FTA's Master Agreement. Each grant for Emergency Relief funds will include special grant conditions, including but not limited to, application of insurance proceeds, application of any FEMA funds received, and Federal share. These special conditions will be incorporated into the grant agreement for all Emergency Relief funds obligated for 2018 disaster response and recovery.

D. Reporting

Post-award reporting requirements include submission of the Federal Financial Reports (FFRs) and Milestone Progress Reports (MPRs) in TrAMS consistent with the FTA's grants management Circular 5010.1E.

E. Oversight and Audits

FTA will provide oversight of grants funded through the Emergency Relief Program using its standard oversight programs, including Triennial Reviews and State Management Reviews. FTA may assign program level reviews such as Procurement System Reviews or Financial Management Oversight reviews. FTA will monitor the use of insurance proceeds to ensure the recipient meets program requirements. FTA may undertake other reviews of projects, such as Technical Capacity and Capability Assessments; Risk Assessments; Cost, Schedule, and Scope Reviews; and other reviews FTA determines are necessary.

F. Federal Awarding Agency Contact

For program-specific questions about applying for the funds through GRANTS.GOV as outlined in this notice, please contact Thomas Wilson, Office of Program Management, 1200 New Jersey Ave. SE, Washington, DC 20590, phone: (202) 366-5279, or email, Thomas.Wilson@dot.gov. For legal questions, contact Bonnie Graves, Office of Chief Counsel, 90 Seventh St., Ste 15-300, San Francisco, CA 94103, phone: (202) 366-0944, or email, Bonnie.Graves@dot.gov.

K. Jane Williams,
Acting Administrator.

[FR Doc. 2019-26068 Filed 12-2-19; 8:45 am]

BILLING CODE P